NUCLEAR REGULATORY COMMISSION

[Docket Nos. 50-155, and 72-43; NRC-2013-0218]

Environmental Assessment; Entergy Nuclear Operations, Inc., Big Rock Point

AGENCY: Nuclear Regulatory Commission.

ACTION: Environmental assessment and finding of no significant impact; issuance.

SUMMARY: The U.S. Nuclear Regulatory Commission (NRC) is considering issuance of an exemption to Entergy Nuclear Operations, Inc. (ENO) (the applicant or the licensee), for the Big Rock Point (BRP) Independent Spent Fuel Storage Installation (ISFSI).

ADDRESSES: Please refer to Docket ID NRC-2013-0218 when contacting the NRC about the availability of information regarding this document. You may access publicly-available information related to this action by the following methods:

• Federal Rulemaking Web site: Go to http://www.regulations.gov and search for Docket ID NRC-2013-0218. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The applicant submitted its exemption request by letter dated June 20, 2012, under ADAMS Accession No. ML12173A066.

• NRC's PDR: You may examine and purchase copies of public documents at the NRC's PDR, Room O1-F21, One White Flint North, 11555 Rockville Pike, Rockville, Maryland 20852.

FOR FURTHER INFORMATION CONTACT: Pamela Longmire, Office of Nuclear Material Safety and Safeguards, U.S. Nuclear Regulatory Commission, Washington, DC 20555-0001, telephone: 301-287-0829; email: pamela.longmire@nrc.gov.

SUPPLEMENTARY INFORMATION:

I. Introduction

The NRC is considering issuance of an exemption to Entergy Nuclear Operations, Inc. (ENO) (the applicant or the licensee), pursuant to section 50.12 of Title 10 of the Code of Federal Regulations (10 CFR), “Specific exemptions,” from specific portions of the requirements of 10 CFR 50.47, “Emergency plans,” and 10 CFR part 50, appendix E, “Emergency Planning and Preparedness for Production and Utilization Facilities,” for the Big Rock Point (BRP) Independent Spent Fuel Storage Installation (ISFSI).

II. Environmental Assessment (EA)

Background

ENO is the holder of Facility Operating License DPR-6 for the BRP facility. The license, issued pursuant to the Atomic Energy Act of 1954, as amended, and 10 CFR part 50, allows ENO to possess and store spent nuclear fuel at the permanently shutdown and decommissioned facility under the provision of 10 CFR part 72, subpart K, “General License for Storage of Spent Fuel at Power Reactor Sites.” In a letter dated June 26, 1997 (ADAMS Legacy Accession No. 9707030167), Consumers Energy Company (CEC), then holder of DPR-6, informed the NRC that the BRP facility had permanently ceased power operations. In a letter dated September 23, 1997 (ADAMS Legacy Accession No. 9709300363), CEC informed the NRC that it had permanently moved the fuel from the reactor to the spent fuel pool.

After ceasing operations at the reactor, CEC began transferring spent nuclear fuel from the spent fuel pool to the BRP ISFSI for long term dry storage. As discussed in letters dated September 8, 2005, and November 16, 2006 (ADAMS Accession Nos. ML052550366 and ML063260085, respectively), these activities were completed in 2003 and final decommissioning of the reactor site was completed in 2006. The BRP ISFSI is a stand-alone ISFSI located on approximately 30 acres in Charlevoix County, on the northern shore of Michigan's Lower Peninsula. In a letter dated July 30, 2007 (ADAMS Accession No. ML072220219), ENO applied for an order approving indirect transfer of control of licenses for BRP. By letter dated July 28, 2008 (ADAMS Accession No. ML080940528), the NRC consented to the proposal.

On November 23, 2011, the NRC issued a Final Rule modifying or adding emergency planning (EP) requirements in §§ 50.47 and 50.54, and Aapendix E of 10 CFR part 50 (76 FR 72560; November 23, 2011) (EP Final Rule). The EP Final Rule was effective on December 23, 2011, with specific implementation dates for each of the rule changes.

ENO states that this exemption request and its impact on the corresponding emergency plan: (1) Is authorized by law; (2) will not present an undue risk to the public health and safety; and (3) is consistent with the common defense and security in accordance with 10 CFR 50.12. ENO states that its intent in submitting this exemption request is to maintain the regulatory structure in place prior to the issuance of the EP Final Rule and, therefore, does not propose any changes to its emergency plan or implementing procedures other than simple regulatory reference changes that can be implemented under 10 CFR 50.54(q).

Identification of Proposed Action

By letter dated June 20, 2012, ENO submitted an exemption request in accordance with 10 CFR 50.12 from specific EP requirements in 10 CFR 50.47 and appendix E to 10 CFR part 50 for the BRP ISFSI. Specifically, ENO explained that the exemption would eliminate requirements associated with offsite consequences, protective actions, hostile action and emergency facilities that are unnecessary due to the current status of the BRP ISFSI.

Need for the Proposed Action

ENO states that, in accordance with 10 CFR 50.82, the 10 CFR part 50 licensed area for BRP has been reduced to a small area surrounding the ISFSI. In this condition, ENO maintains that BRP poses a significantly reduced risk to public health and safety from design basis accidents or credible beyond design basis accidents because these types of accidents cannot result in radioactive releases which exceed the U.S. Environmental Protection Agency (EPA) Protective Action Guides (PAGs) at the site boundary. Because of this reduced risk, compliance with all the requirements in 10 CFR 50.47 and 10 CFR part 50, appendix E is not appropriate. ENO explains that the requested exemption from portions of 10 CFR 50.47 and 10 CFR part 50, appendix E is needed to continue implementation of the BRP ISFSI Emergency Plan that is appropriate for a stand-alone ISFSI and is commensurate with the reduced risk posed by the facility. In addition, the requested exemption would allow spent fuel storage to continue without imposing burdensome and costly new requirements that provide no increased safety benefit.

Environmental Impacts of the Proposed Action

The NRC has determined that no credible events at the BRP ISFSI would result in doses to the public beyond the owner controlled area boundary that would exceed the EPA PAGs. Additionally, the staff has concluded that the BRP Emergency Plan with the exemptions described in its safety evaluation (ADAMS Accession No. ML13254A002), provides for an acceptable level of emergency preparedness at the BRP facility in its shutdown and defueled condition, and also provides reasonable assurance that adequate protective measures can and will be taken in the event of a radiological emergency at the BRP facility. Based on these findings, the NRC concludes that there are no radiological environmental impacts due to granting the approval of the exemption. The proposed action will not increase the probability or consequences of accidents. No changes are being made in the types or quantities of effluents that may be released offsite, and there is no significant increase in occupational or public radiation exposure. Therefore, there are no significant radiological environmental impacts associated with the proposed action. The proposed action does not affect non-radiological plant effluents and has no other environmental impact. Therefore, there are no significant non-radiological impacts associated with the proposed action. Based on the assessment above, the proposed action will not have a significant effect on the quality of the human environment.

Alternative to the Proposed Action

Since there is no significant environmental impact associated with the proposed action, any alternatives with equal or greater environmental impact are not evaluated. The alternative to the proposed action would be to deny approval of the exemption. This alternative would have the same environmental impact.

Agencies and Persons Consulted

The environmental assessment associated with the exemption request was sent to Mr. Ken Yale, Section Chief of the Radiological Protection Section in the Office of Waste Management and Radiological Protection at the Michigan Department of Environmental Quality (DEQ) by email dated August 22, 2013 (ADAMS Accession No. ML13238A158). The state response was received by email dated August 23, 2013 (ADAMS Accession No. ML13238A109). The email states that DEQ reviewed the draft environmental assessment and has no comments. The NRC staff has determined that a consultation under Section 7 of the Endangered Species Act is not required because the proposed action will not affect listed species or critical habitat. The NRC staff has also determined that the proposed action is not a type of activity that has the potential to impact historic properties because the proposed action would occur within the established BRP site boundary. Therefore, no consultation is required under Section 106 of the National Historic Preservation Act.

III. Finding of No Significant Impact

The environmental impacts of the proposed action have been reviewed in accordance with the requirements set forth in 10 CFR part 51. Based upon the environmental assessment, the NRC finds that the proposed action of granting the exemption from specific EP requirements in 10 CFR 50.47 and 10 CFR part 50, appendix E will not significantly impact the quality of the human environment. Accordingly, the NRC has determined not to prepare an environmental impact statement for the proposed exemption and that a finding of no significant impact is appropriate.

IV. Further Information

In accordance with 10 CFR 2.390 of NRC's “Rules of Practice,” final NRC records and documents regarding this proposed action are publicly available in the records component of NRC's Agencywide Documents Access and Management System (ADAMS). The request for exemption dated June 20, 2012 (ADAMS Accession No. ML12173A066), was docketed under 10 CFR Part 50, Docket 50-155 and under 10 CFR Part 72, Docket 72-43. These documents may be inspected at NRC'S Public Electronic Reading Room at http://www.nrc.gov/reading-rm/adams.html. These documents may also be viewed electronically on the public computers located at the NRC's Public Document Room (PDR), O1F21, One White Flint North, 11555 Rockville Pike, Rockville, MD 20852. The PDR reproduction contractor will copy documents for a fee. Persons who do not have access to ADAMS, or who encounter problems in accessing the documents located in ADAMS, should contact the NRC PDR Reference staff by telephone at 1-800-397-4209, or (301) 415-4737, or by email to pdr@nrc.gov.

Dated at Rockville, Maryland, this 17th day of September, 2013.
For the Nuclear Regulatory Commission.
Michele Sampson,
Chief, Licensing Branch, Division of Spent Fuel Storage and Transportation, Office of Nuclear Material Safety, and Safeguards.

[FR Doc. 2013-23181 Filed 9-23-13; 8:45 am]

BILLING CODE 7590-01-P